POSTAL SERVICE

39 CFR Part 20

International Customized Mail Service

AGENCY: Postal Service.

ACTION: Final rule.

SUMMARY: The Postal Service adopts the proposed changes to its International Customized Mail Service to reduce the volume or revenue requirements.

DATES: Effective April 30, 2001.

FOR FURTHER INFORMATION CONTACT: Robert E. Michelson, (703) 292-3605.

SUPPLEMENTARY INFORMATION: On March 8, 2001, the Postal Service published in the Federal Register (66 FR 13868) a notice of proposed changes to International Customized Mail Service. These proposed changes would reduce the required volume or revenue that a mailer of non-letter-post items (including Global Priority Mail) must meet to qualify for International Customized Mail service. The volume requirement would be reduced from 1 million pounds of international mail to 600 pieces, on an annualized basis. The revenue requirement would be reduced from $2 million in international postage to $12,000, on an annualized basis.

The Postal Service invited public comment by April 9, 2001. The Postal Service did not receive any comments by that date. Accordingly, the Postal Service is adopting the proposed rule.

The Postal Service adopts the following amendments to the International Mail Manual (IMM), which is incorporated by reference in the Code of Federal Regulations. See 39 CFR 20.1.

List of Subjects in 39 CFR Part 20

Foreign relations.

PART 20—[AMENDED]

1. The authority citations for 39 CFR part 20 continue to read as follows:

Authority: 5 U.S.C. 552(a); 39 U.S.C. 401, 404, 407, 408.

2. The International Mail Manual (IMM) is amended to incorporate the following changes:

2 CONDITIONS FOR MAILING

* * * * *

290 Commercial Services

* * * * *

297 International Customized Mail

* * * * *

297.2 Qualifying Mailers

To qualify for ICM service, a mailer must tender all of its ICM mail to the Postal Service and must be capable, on an annualized basis, of either:

a. Tendering at least 1 million pounds of international letter-post mail (excluding Global Priority Mail) to the Postal Service, or paying at least $2 million in international letter-post postage to the Postal Service.

b. Tendering at least 600 pieces of international non-letter-post mail (including Global Priority Mail) to the Postal Service, or paying at least $12,000 in international non-letter-post postage to the Postal Service.

* * * * *

Stanley F. Mires,
Chief Counsel, Legislative.

[FR Doc. 01-10553 Filed 4-27-01; 8:45 am]

BILLING CODE 7710-12-U 7710-12